DEPARTMENT OF ENERGY

10 CFR Part 430

[Docket No. EERE-2008-BT-STD-0019]

RIN 1904-AB90

Energy Conservation Standards for Residential Clothes Washers: Public Meeting and Availability of the Framework Document

AGENCY: Office of Energy Efficiency and Renewable Energy, Department of Energy.

ACTION: Notice of public meeting and availability of the framework document.

SUMMARY: The U.S. Department of Energy (DOE) will hold an informal public meeting to discuss and receive comments on issues that it will address in this rulemaking proceeding. The Department is requesting information from interested parties to assist in establishing energy conservation standards for residential clothes washers. The Department also encourages written comments on any subject within the scope of this proceeding. To inform interested parties and facilitate this process, DOE has prepared a draft framework document, available at http://www1.eere.energy.gov/buildings/appliance_standards/residential/clothes_washers.html.

DATES: The Department will hold a public meeting on September 21, 2009, from 9 a.m. to 5 p.m. in Washington, DC. Any person requesting to speak at the public meeting should submit such request along with a signed original and an electronic copy of the statements to be given at the public meeting before 4 p.m., Monday, September 14, 2009. Written comments are welcome, especially following the public meeting, and should be submitted by September 28, 2009.

ADDRESSES: The public meeting will be held at the U.S. Department of Energy, Forrestal Building, Room #1E-245, 1000 Independence Avenue, SW., Washington, DC 20585-0121. Please note that foreign nationals participating in the public meeting are subject to advance security screening procedures. If a foreign national wishes to participate in the public meeting, please inform DOE of this fact as soon a possible by contacting Ms. Brenda Edwards at (202) 586-2945 so that the necessary procedures can be completed.

Interested parties may submit comments, identified by docket number EERE-2008-BT-STD-0019 and/or Regulation Identifier Number (RIN) 1904-AB90, by any of the following methods:

• Federal eRulemaking Portal: http://www.regulations.gov Follow the instructions for submitting comments.

• E-mail: RCW-2008-STD-0019@ee.doe.gov. Include docket number EERE-2008-BT-STD-0019 and/or RIN 1904-AB90 in the subject line of the message.

• Postal Mail: Ms. Brenda Edwards, U.S. Department of Energy, Building Technologies Program, Mailstop EE-2J, Framework Document for Residential Clothes Washers, Docket No. EERE-2008-BT-STD-0019 and/or RIN 1904-AB90, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the DOE docket number EERE-2008-BT-STD-0019 or RIN 1904-AB90.

Docket: For access to the docket to read background documents, a copy of the transcript of the public meeting, or comments received, go to the U.S. Department of Energy, 6th Floor, 950 L'Enfant Plaza, SW., Washington, DC 20024, between 9 a.m. and 4 p.m., Monday through Friday, except Federal holidays. Please call Ms. Brenda Edwards at the above telephone number for additional information regarding visiting the Resource Room.

FOR FURTHER INFORMATION CONTACT: Mr. Stephen Witkowski, U.S. Department of Energy, Office of Energy Efficiency and Renewable Energy, Building Technologies, EE-2J, 1000 Independence Avenue, SW., Washington, DC 20585-0121. Phone: (202) 586-7463. E-mail: stephen.witkowski@ee.doe.gov.

Mr. Michael Kido, U.S. Department of Energy, Office of General Counsel, GC-72, 1000 Independence Avenue, SW., Washington, DC 20585-0121. Phone: (202) 586-9507. E-mail: michael.kido@hq.doe.gov.

SUPPLEMENTARY INFORMATION: Part A of Title III of the Energy Policy and Conservation Act of 1975 (EPCA), 42 U.S.C. 6291 et seq., established an energy conservation program for major household appliances, which includes residential clothes washers. This program authorizes the Department to establish technologically feasible, economically justified energy efficiency regulations for certain consumer products.

The amendments to EPCA in the National Appliance Energy Conservation Act of 1987 (NAECA), Public Law 100-12, established prescriptive energy conservation standards for residential clothes washers, as well as requirements for determining whether these standards should be amended. (42 U.S.C. 6295(g))

EPCA, as amended by NAECA, required that all rinse cycles of clothes washers manufactured after January 1, 1988, shall include an unheated water option, but may have a heated water rinse option, and further required that DOE conduct two cycles of rulemakings to determine if more stringent standards are justified. (42 U.S.C. 6295(g)(2) and (4)) In addition to these design standards, DOE published a Notice of Proposed Rulemaking (NOPR) seeking comments on establishing performance standards for these products. 54 FR 32744 (Aug. 9, 1989). Shortly thereafter, DOE published an advance notice of proposed rulemaking (ANOPR) for the second standards rulemaking required by Congress. 55 FR 39624 (Sept. 28, 1990).

After the closing of the first standards rulemaking's NOPR comment period, however, DOE became aware of a design option (horizontal-axis wash tub in a top-loading washer) available in Europe. This option was not considered during the course of this first standards rulemaking. As a result, when the final rule was published on May 14, 1991, DOE announced its intention to accelerate the second energy conservation standards rulemaking for clothes washers to take this design option into account. 56 FR 22250 (May 1991 Final Rule). The standards established by the first rulemaking became effective on May 14, 1994. 56 FR 22279.

Responding to this ANOPR for the second standards rulemaking, a number of interested parties requested that DOE delay the completion of this second rulemaking until a 1995-1996 time frame. These parties requested additional time in order to allow manufacturers time to meet the standards in the May 1991 Final Rule, and to fully evaluate new, more energy efficient technologies such as top-loading horizontal-axis clothes washers. On February 26, 1992, DOE published a letter to interested parties granting this request.

On November 14, 1994, DOE published another ANOPR to restart the second energy conservation standards rulemaking for clothes washers, dishwashers, and clothes dryers. 59 FR 56423. However, Congress imposed a moratorium on proposed or final rules for appliance energy conservation standards for Fiscal Year 1996. Omnibus Consolidated Rescissions and Appropriations Act of 1996, Public Law 104-134, Section 320 (April 26, 1996). During this time, DOE revised the standards-setting process and on July 15, 1996, published a final rule that elaborated on the procedures, interpretations, and policies that would guide DOE as it established new or revised energy conservation standards for consumer products. (See 61 FR 36974 (Procedures for Consideration of New or Revised Energy Conservation Standards for Consumer Products); 10 CFR part 430, subpart C, appendix A). DOE determined to use its revised standards-setting process in the development of the revised clothes washer standards, and reopened the second energy conservation standards rulemaking for these products on November 19, 1998, by publishing a supplemental ANOPR. On January 12, 2001, DOE published a final rule revising the energy conservation standards, which became effective in two phases—January 1, 2004 and January 1, 2007. 66 FR 3314. By completing this second standards rulemaking, DOE fulfilled its legislative requirement to conduct two cycles of standards rulemakings.

As part of its priority-setting activities for fiscal year 2006, DOE conducted analyses for residential clothes washers to estimate the energy savings potential of amended standards. DOE determined that amended standards could result in energy savings for residential clothes washers of 5.5 quads cumulative over the period of 2004-2030. A summary of these analyses is available on DOE's Web site at http://www1.eere.energy.gov/buildings/appliance_standards/pdfs/2006_activities_data_sheets.pdf.

Subsequently, Congress enacted the Energy Independence and Security Act of 2007 (EISA 2007), Public Law 110-140, which revised the energy conservation standards for residential clothes washers. The revised standards established a maximum water factor of 9.5 and become effective on January 1, 2011. See EISA 2007, Section 311(a)(2), codified at 42 U.S.C. 6295(g)(9). EISA 2007 further required that DOE publish a final rule no later than December 31, 2011, to determine whether to amend the standards in effect for clothes washers manufactured on or after January 1, 2015. (42 U.S.C. 6295(g)(9)(B)(i)) DOE is embarking on a standards rulemaking for these products to comply with these EISA 2007 requirements.

To begin the required rulemaking process, the Department has prepared a framework document to explain the issues, analyses, and process that it is considering for the development of amended energy conservation standards for residential clothes washers. This document will be publicly available for review. Additionally, DOE will hold a public meeting to focus on the analyses and issues contained in various sections of the framework document. For each item listed, the Department will make a presentation with discussion to follow. The Department will also make a brief presentation on the rulemaking process for these products.

The Department encourages anyone who wishes to participate in the public meeting to obtain the framework document and to be prepared to discuss its contents. A copy of the draft framework document is available at http://www1.eere.energy.gov/buildings/appliance_standards/residential/clothes_washers.html. However, public meeting participants need not limit their comments to the topics identified in the framework document. The Department is also interested in receiving views on other relevant issues that participants believe would affect energy conservation standards for these products. The Department welcomes all interested parties, whether or not they participate in the public meeting, to submit in writing by September 28, 2009, comments and information on matters addressed in the framework document and on other matters relevant to consideration of standards for residential clothes washers.

DOE will conduct the public meeting in an informal, conference style. A court reporter will record the minutes of the meeting. The discussion will not include proprietary information, costs or prices, market shares, or other commercial matters regulated by U.S. antitrust laws.

After the public meeting and the expiration of the period for submitting written statements, the Department will begin collecting data, conducting the analyses as discussed at the public meeting, and reviewing public comments.

Anyone who wishes to participate in the public meeting, receive meeting materials, or be added to the DOE mailing list to receive future notices and information about residential clothes washers should contact Ms. Brenda Edwards at (202) 586-2945.

Issued in Washington, DC, on August 21, 2009.
Cathy Zoi,
Assistant Secretary, Energy Efficiency and Renewable Energy.

[FR Doc. E9-20803 Filed 8-27-09; 8:45 am]

BILLING CODE 6450-01-P